UNIFIED CARRIER REGISTRATION PLAN

Sunshine Act Meeting Notice; Unified Carrier Registration Plan Board of Directors Meeting

TIME AND DATE: June 4, 2019, from 8:30 a.m. to 12:00 p.m., Mountain daylight time.

PLACE: Best Western Ramkota Hotel, 2111 N Lacrosse St., Rapid City, South Dakota. This meeting will also be accessible via conference call. Any interested person may call 1-866-210-1669, passcode 5253902#, to listen and participate in the open portions of the meeting.

STATUS: Parts of this meeting will be open to the public. Parts of this meeting will be closed to the public pursuant to Government in the Sunshine Act exemptions (c)(9)(B) and (c)(10) (see agenda below for further information).

MATTERS TO BE CONSIDERED: The Unified Carrier Registration Plan Board of Directors (the “Board”) will continue its work in developing and implementing the Unified Carrier Registration Plan and Agreement. The subject matter of the meeting will include:

Agenda

Portions Open to the Public

I. Welcome, Call to Order, and Introductions—UCR Chair

UCR Chair will welcome attendees and call the meeting to order.

II. Verification of Publication of Meeting Notice—UCR Chair

UCR Chair will report the date of meeting notice publication in Federal Register.

III. Review and Approval of Agenda and Setting of Ground Rules—UCR Chair

For Discussion and Possible Board Action

Agenda will be reviewed and the Board will consider adoption.

Ground Rules

• Board action only to be taken in designated areas on agenda.

• Please MUTE your telephone.

• Do NOT place call on hold.

IV. Approval of Minutes of the March 29, 2019 UCR Board Meeting—UCR Chair

For Discussion and Possible Board Action

• Minutes of the March 29, 2019 Board meeting will be reviewed and the Board will consider approval.

V. Recommendations for Possible Board Action—Subcommittee Chairs

Board

UCR Agreement Amendment—Subcommittee Chair

For Discussion and Possible Board Action

• A recommendation to the Department of Transportation for designating a new Chair for the UCR Board of Directors will be reviewed and the Board will consider action.

Procedures Subcommittee Report

Direct Access to Federal Register—Chief Legal Officer

For Discussion and Possible Board Action

• The Board will receive a report on the Subcommittee's effort to obtain direct access to the Federal Register for publication of meeting announcements. The Board will consider the Subcommittee's recommendation to ratify the Chief Legal Officer's actions to obtain direct access to the Federal Register.

UCR Agreement Amendment—Subcommittee Chair

For Discussion and Possible Board Action

• Succession Plan in Event of Chair and Vice Chair Vacancy: Recommendation for amending the UCR Agreement to address Chair and Vice Chair vacancies will be reviewed and the Board will consider action.

UCR Handbook Amendments—Subcommittee Chair

For Discussion and Possible Board Action

• School Buses: Recommendation for new language for the handling of school buses for UCR purposes will be reviewed and the Board will consider action.

• Refund Procedure: Recommendation for new language describing the UCR refund procedure will be reviewed and the Board will consider action.

• State Carrier Audit Procedure: Recommendation for new language describing the state carrier audit procedure will be reviewed and the Board will consider action.

Audit Subcommittee Report

Proposal for Addressing Non-Compliant Carrier Audit Reports—Subcommittee Chair

For Discussion and Possible Board Action

• Proposal for how the UCR should address non-compliant carrier audit reports submitted by participating states will be reviewed and the Board will consider action.

Finance Subcommittee Report

Proposal for Establishing Contingency Reserve—Subcommittee Chair

For Discussion and Possible Board Action

• Proposal for establishing a financial contingency reserve for the UCR Plan will be reviewed and the Board will consider action.

Development Priorities—Subcommittee Chair

For Discussion and Possible Board Action

• Proposal for necessary system development projects will be reviewed and Board will consider action.

Registration System Subcommittee Report

Proposed Policy RE: Blocking Certain Carrier Payments with History of Problems—Subcommittee Chair

For Discussion and Possible Board Action

• Proposal for new rules regarding the need to block specific payment methods utilized by carriers following multiple problems with that payment method will be reviewed and the Board will consider action

Proposed Policy RE: Pending Payment Time Period—Subcommittee Chair

For Discussion and Possible Board Action

• Proposal for establishing a defined time period after which carriers having a payment pending in the National Registration System will cause the registration transaction to be deleted from the system will be reviewed and the Board will consider action.

• Proposal from Seikosoft—Subcommittee Chair

For Discussion and Possible Board Action

• Proposal for additional administrative support to be provided by Seikosoft will be reviewed and Board will consider action.

Development Priorities—Subcommittee Chair

For Discussion and Possible Board Action

• Proposal for necessary system development projects will be reviewed and Board will consider action.

Ratification (Registration System Subcommittee)

Enforcement Delay to May 1, 2019—UCR Chair

For Discussion and Possible Board Action

• Board will consider Subcommittee's recommendation related to ratification of the UCR Chair's directive to postpone 2019 UCR enforcement to May 1, 2019.

Education and Training Subcommittee Report

Proposal for Strategic Direction—Subcommittee Chair and Operations Manager

For Discussion and Possible Board Action

• Proposal for Kellen to provide strategic direction to the new UCR education and training program will be reviewed and the Board will consider action.

VI. Updates Concerning UCR Legislation—UCR Chair

UCR Chair will call for any updates regarding UCR Legislation since the last Board meeting.

VII. Report of FMCSA—FMCSA

FMCSA will provide updates on any relevant activity or rulemaking.

VIII. Contractor Reports

• UCR Administrator (Kellen): UCR Administrator will provide management report covering recent activity for the Depository, Operations, and Communications activities.

• DSL Transportation Services, Inc.: DSL will report on the latest data on state collections based on reporting from the Focused Anomalies Review (FARs) program.

• Seikosoft: Seikosoft will provide an update on recent/new activity related to the National Registration System.

IX. Subcommittee Reports—Subcommittee Chairs

*Note: Dispute Resolution awaiting appointment of new UCR Chair, so not included on agenda.

If necessary, Subcommittee Chairs will provide brief reports (2-3 minutes) on any activity not previously covered on the agenda related to their Subcommittees.

• Audit Subcommittee

• Finance Subcommittee

• Registration System Subcommittee

• Education and Training Subcommittee

• Procedures Subcommittee

• Industry Advisory Subcommittee

Portions Closed to the Public

X. Inform Board RE: Data Investigation—UCR Chair, Scott Morris, and Chief Legal Officer

Board will receive a report concerning a data investigation initiated since the last Board meeting.

XI. Ratification of Agreement RE: Data Investigation—UCR Chair and Scott Morris

For Discussion and Possible Board Action

Board will consider Subcommittee's recommendation related to ratification of UCR Chair's expedient execution of contract for information security and computer forensic services.

XII. Update on Twelve Percent Logistics Litigation—UCR Chair, Scott Morris, and Chief Legal Officer

Board will receive a report on the status of the litigation.

Portions Open to the Public

XIII. Old/New Matters

UCR Chair will call for any business requiring possible Board action for inclusion on the June 4, 2019 Board agenda. UCR Chair will call for any old or new business from the floor.

XIV. Future UCR Meetings—Avelino Gutierrez

UCR Chair will review the schedule for upcoming meetings.

XV. Adjourn

UCR Chair will adjourn the meeting.

This agenda will be available no later than 5:00 p.m. Mountain daylight time, May 24, 2019 at: https://ucrplan.org.

CONTACT PERSON FOR MORE INFORMATION: Mr. Avelino Gutierrez, Chair, Unified Carrier Registration Board of Directors, (505) 827-4565, Avelino.Gutierrez@state.nm.us.

Alex B. Leath,
Chief Legal Officer, Unified Carrier Registration Plan.

[FR Doc. 2019-10580 Filed 5-16-19; 4:15 pm]

BILLING CODE 4910-YL-P